DEPARTMENT OF TRANSPORTATION

Federal Aviation Administration

Notice of Opportunity for Public Comment on a Land Use Change From Aeronautical to Non-Aeronautical Use for 22.1 Acres of Airport Land for Solar Farm Use at Brunswick Executive Airport, Brunswick, ME

AGENCY: Federal Aviation Administration (FAA), DOT.

ACTION: Request for public comments.

SUMMARY: Notice is being given that the FAA is considering a request from the Midcoast Regional Redevelopment Authority (MRRA), to change the current land use from aeronautical use to non-aeronautical use of a 22.1-acre parcel of land. The parcel is located in the northern quadrant of the airport adjacent, but separate from the airside area. The Airport Layout Plan was updated with a Pen and Ink Change to designate the parcel for non-aeronautical use. The airport will obtain fair market value for the lease of the land. The income derived from this lease will be placed in the airport's operation and maintenance funds for the facility.

DATES: Comments must be received on or before January 11, 2018.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts, on November 20, 2017.
Kathleen Coffey,
Acting Manager, ANE-600.

[FR Doc. 2017-26774 Filed 12-11-17; 8:45 am]

BILLING CODE 4910-13-P